FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 21, 2016.

A. Federal Reserve Bank of Chicago (Colette A. Fried, Assistant Vice President) 230 South LaSalle Street, Chicago, Illinois 60690-1414:

1. Patricia Jurgens and Michael Aikman, both of Arthur, Illinois, and Gale Winningham, Hillsborough, California; to retain voting shares of Arthur Bancshares, Inc., and indirectly retain shares of State Bank of Arthur, both in Arthur, Illinois, and thereby join the existing Jurgens Winningham Family Control Group previously approved to control 25 percent or more of the voting shares of Arthur Bancshares, Inc.

Board of Governors of the Federal Reserve System, December 1, 2016.
Yao-Chin Chao,
Assistant Secretary of the Board.

[FR Doc. 2016-29193 Filed 12-5-16; 8:45 am]

BILLING CODE 6210-01-P